DEPARTMENT OF TRANSPORTATION

Federal Aviation Administration

14 CFR Part 400

[Docket No. FAA-2012-0318; Amdt. No. 400-4]

RIN 2120-AK16

Voluntary Licensing of Amateur Rocket Operations; Withdrawal

AGENCY: Federal Aviation Administration (FAA), DOT.

ACTION: Direct Final rule, withdrawal.

SUMMARY: The FAA is withdrawing a previously published direct final rule that would have allowed launch operators that conduct certain amateur rocket launches to voluntarily apply for a commercial space transportation license or experimental permit. The FAA is withdrawing this action because of the adverse comments it received.

DATES: The direct final rule published on August 22, 2012, at 77 FR 50584 is withdrawn, effective November 8, 2012.

FOR FURTHER INFORMATION CONTACT: For technical questions concerning this action, contact Shirley McBride, Senior Transportation Industry Analyst, Office of Commercial Space Transportation, Regulations and Analysis Division, Federal Aviation Administration, 800 Independence Avenue SW., Washington, DC 20591; telephone (202) 267-7470; facsimile (202) 267-5463; email Shirley.McBride@faa.gov. For legal questions concerning this action, contact Laura Montgomery, Senior Attorney for Commercial Space Transportation, Office of the Chief Counsel, Regulations Division, Federal Aviation Administration, 800 Independence Avenue SW., Washington, DC 20591; telephone (202) 267-3150; facsimile (202) 267-7971; email laura.montgomery@faa.gov.

SUPPLEMENTARY INFORMATION:

Background

On August 22, 2012, the FAA published a direct final rule that would have amended the scope of its chapter III regulations to give operators of Class 3 advanced high-power rockets the option of applying for a chapter III launch license or permit, or continuing to operate under 14 CFR chapter I, part 101. The direct final rule would have been strictly voluntary. Only those operators that wished to apply under chapter III for a license needed to do so. However, once an operator accepted an FAA license or permit, part 101 would no longer have applied, and the operator would have been governed by the provisions of chapter III for those rockets.

The Commercial Space Launch Act provides that the United States should encourage private sector launches, reentries, and associated services. The FAA initiated the direct final rule primarily to support those launch operators that, under contract with NASA, were required by NASA to obtain an FAA launch license. Because the rule was strictly voluntary, the FAA believed there was good cause to issue it as a direct final rule.

Reason for Withdrawal

The FAA is withdrawing the direct final rule because the agency received several adverse comments. In brief, the commenters raised issues concerning the potential cost to small businesses and the government, both in terms of the resources necessary for preparing and evaluating applications and in terms of the conditional payment of excess claims commonly referred to as “indemnification.” Others expressed doubts about whether amateur rockets could ever meet chapter III requirements, whether applying those requirements to smaller vehicles made sense or was necessary, and whether safety issues were created.

Conclusion

Withdrawal of Amendment No. 400-4 does not preclude the FAA from a rulemaking on the subject in the future or committing the agency to any future course of action.

The FAA withdraws Amendment No. 400-4 published at 77 FR 50584 on August 22, 2012.

Issued in Washington, DC, on November 6, 2012.
Michael P. Huerta,
Acting Administrator.

[FR Doc. 2012-27503 Filed 11-7-12; 4:15 pm]

BILLING CODE 4910-13-P